DEPARTMENT OF DEFENSE

Department of the Navy

Notice of Intent To Grant Exclusive Patent License; Trojan Defense, Inc.

AGENCY: Department of the Navy, DOD.

ACTION: Notice.

SUMMARY: The Department of the Navy hereby gives notice of its intent to grant to Trojan Defense, Inc., a revocable, nonassignable, exclusive license to practice in the field of intermodal sea containers in the United States and certain foreign countries, the Government-owned inventions described in U.S. Patent Application No. 10/693,847 entitled “Neutron Sensitive Integrated Circuit”, Navy Case No. 84,355 and U.S. Patent Application Serial No. 10/693,846 entitled “Semiconductor Substrate Incorporating a Neutron Conversion Layer”, Navy Case No. 84,785.

DATES: Anyone wishing to object to the grant of this license must file written objections along with supporting evidence, if any, not later than July 16, 2004.

ADDRESSES: Written objections are to be filed with the Naval Research Laboratory, Code 1004, 4555 Overlook Avenue, SW, Washington, DC 20375-5320.

FOR FURTHER INFORMATION CONTACT: Ms. Jane F. Kuhl, Technology Transfer Office, NRL Code 1004, 4555 Overlook Avenue, SW, Washington, DC 20375-5320, telephone (202) 767-3083. Due to U.S. Postal delays, please fax (202) 404-7920, E-mail: kuhl@utopia.nrl.navy.mil or use courier delivery to expedite response.

(Authority: 35 U.S.C. 207, 37 CFR Part 404)
Dated: June 25, 2004.
S.K. Melancon,
Paralegal Specialist, Office of the Judge Advocate General, Alternate Federal Register Liaison Officer.

[FR Doc. 04-14930 Filed 6-30-04; 8:45 am]

BILLING CODE 3810-FF-P